FEDERAL COMMUNICATIONS COMMISSION

47 CFR Part 73

[DA 05-2932; MB Docket No. 04-328; RM-11046, RM-11235]

Radio Broadcasting Services; Americus and Oglethorpe, GA

AGENCY: Federal Communications Commission.

ACTION: Final rule; denial of petition for reconsideration.

SUMMARY: This document denies a Petition for Reconsideration filed by Southern Broadcasting Companies and Radio Georgia, Inc. directed at the Report and Order in this proceeding, which allotted Channel 295A at Americus, Georgia. See 70 FR 41630, published July 20, 2005. With this action, the proceeding is terminated.

FOR FURTHER INFORMATION CONTACT: Rolanda F. Smith, Media Bureau, (202) 418-2180.

SUPPLEMENTARY INFORMATION: This is a synopsis of the Commission's Memorandum Opinion and Order, MB Docket No. 04-328, adopted November 4, 2005, and released November 7, 2005. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20054, telephone 1-800-378-3160 or http://www.BCPIWEB.com. The Commission will not send a copy of this Memorandum Opinion and Order pursuant to the Congressional Review Act, see 5 U.S.C. 801(a)(1)(A), because the aforementioned Petition for Reconsideration was denied.

Federal Communications Commission.
John A. Karousos,
Assistant Chief, Audio Division, Media Bureau.

[FR Doc. 05-22844 Filed 11-22-05; 8:45 am]

BILLING CODE 6712-01-P